DEPARTMENT OF EDUCATION

National Board for Education Sciences; Meeting

AGENCY: Institute of Education Sciences, U.S. Department of Education.

ACTION: Notice of an open meeting.

SUMMARY: This notice sets forth the schedule and proposed agenda of an upcoming meeting of the National Board for Education Sciences. The notice also describes the functions of the Committee. Notice of this meeting is required by Section 10(a)(2) of the Federal Advisory Committee Act and is intended to notify the public of their opportunity to attend the meeting.

DATES: February 24, 2012.

Time: 8:30 a.m. to 5 p.m.

ADDRESSES: 80 F Street NW., Room 100, Washington, DC 20001.

FOR FURTHER INFORMATION CONTACT: Monica Herk, Executive Director, National Board for Education Sciences, 555 New Jersey Ave. NW., Room 602 K, Washington, DC 20208; phone: (202) 208-3491; fax: (202) 219-1466; email: Monica.Herk@ed.gov.

SUPPLEMENTARY INFORMATION: The National Board for Education Sciences is authorized by Section 116 of the Education Sciences Reform Act of 2002 (ESRA), 20 U.S.C. 9516. The Board advises the Director of the Institute of Education Sciences (IES) on, among other things, the establishment of activities to be supported by the Institute, on the funding for applications for grants, contracts, and cooperative agreements for research after the completion of peer review, and reviews and evaluates the work of the Institute.

On February 24, 2012, starting at 8:30 a.m., the Board will approve the agenda and hear remarks from the chair. John Easton, IES Director, and the Commissioners of the national centers will give an overview of recent developments at IES. From 9:30 to 10:45 a.m., Board members will discuss and give suggestions regarding a draft of the Board's 2012 Annual Report. A break will take place from 10:45 to 11 a.m.

From 11 a.m. to 12:30 p.m., the Board will consider the topic, “The Importance of Disseminating Research Results: How can we better reach practitioners and policy-makers?” Following opening remarks by Ruth Neild, Associate Commissioner of the National Center for Education Evaluation, and by Diane Massell with the University of Michigan's School of Education, Board members will engage in roundtable discussion of the issues raised.

The meeting will break for lunch from 12:30 to 1:30 p.m.

Following lunch the Board will resume from 1:30 to 2:30 p.m. to discuss the topic, “Scaling up Promising Models: What can the field of education learn from other Federal agencies?” Naomi Goldstein, Director of the Office of Policy Research and Evaluation in the Administration for Children and Families in the Department of Health and Human Services, and Paul Carttar, Director of the Social Innovation Fund within the Corporation for National and Community Service, will present their experience with scaling up evidence-based programs within the Federal Government. Their presentations will be followed by Board discussion.

From 2:30 to 3:30 p.m., Elizabeth Albro, Acting Commissioner of the National Center for Education Research, and Deborah Speece, Commissioner of the National Center for Special Education Research, will brief the Board on research grants in their centers. The Board will then discuss any implications of these presentations.

An afternoon break from 3:30 to 3:45 p.m. will precede a legislative update from 3:45 to 4:45 p.m. by a representative of the Office of Legislation and Congressional Affairs in the U.S. Department of Education who will brief the Board on legislative developments affecting IES.

At 4:45 p.m., there will be closing remarks and a consideration of next steps from the IES Director and NBES Chair, with adjournment scheduled for 5 p.m.

There will not be an opportunity for public comment. However, members of the public are encouraged to submit written comments related to NBES to Monica Herk (see contact information above). A final agenda will be available from Monica Herk (see contact information above) on February 10 and will be posted on the Board Web site http://ies.ed.gov/director/board/agendas/index.asp. Individuals who will need accommodations for a disability in order to attend the meeting (e.g., interpreting services, assistance listening devices, or materials in alternative format) should notify Monica Herk no later than February 10. We will attempt to meet requests for accommodations after this date but cannot guarantee their availability. The meeting site is accessible to individuals with disabilities.

Records are kept of all Board proceedings and are available for public inspection at 555 New Jersey Ave. NW., Room 602 K, Washington, DC 20208, from the hours of 9 a.m. to 5 p.m., Eastern Standard Time Monday through Friday.

Electronic Access to This Document: You may view this document, as well as all other documents of this Department published in the Federal Register, in text or Adobe Portable Document Format (PDF) on the Internet at the following site: www.ed.gov/news/fed-register/index.html.

To use PDF you must have Adobe Acrobat Reader, which is available free at this site. If you have questions about using PDF, call the U.S. Government Printing Office (GPO), toll free at 1-866-512-1800; or in the Washington, DC, area at (202) 512-0000.

Note: The official version of this document is the document published in the Federal Register. Free Internet access to the official edition of the Federal Register and the Code of Federal Regulations is available on GPO Access at: www.gpoaccess.gov/nara/index.html.

John Q. Easton,
Director, Institute of Education Sciences.

[FR Doc. 2012-3039 Filed 2-8-12; 8:45 am]

BILLING CODE 4000-01-P